DEPARTMENT OF COMMERCE

International Trade Administration

[C-533-821]

Hot-Rolled Carbon Steel Products from India: Extension of Time Limit for Preliminary Results of Countervailing Duty Administrative Review

AGENCY: Import Administration, International Trade Administration, Department of Commerce.

EFFECTIVE DATE: August 2, 2007.

FOR FURTHER INFORMATION CONTACT: Gayle Longest or Robert Copyak, AD/CVD Operations, Office 3, Import Administration, International Trade Administration, U.S. Department of Commerce, 14th Street and Constitution Avenue NW, Washington, DC 20230; telephone: (202) 482-3338 or (202) 482-2209, respectively.

SUPPLEMENTARY INFORMATION:

Background

On February 2, 2007, the U.S. Department of Commerce (“the Department”) published a notice of initiation of the administrative review of the countervailing duty order on certain hot-rolled carbon steel flat products from the India covering the period of review January 1, 2006, through December 31, 2006. See Initiation of Antidumping and Countervailing Duty Administrative Reviews, 72 FR 5005 (February 2, 2007). The preliminary results are currently due no later than September 4, 2007.

Extension of Time Limit for Preliminary Results

Section 751(a)(3)(A) of the Tariff Act of 1930, as amended (“the Act”), requires the Department to make a preliminary determination within 245 days after the last day of the anniversary month of an order or finding for which a review is requested. Section 751(a)(3)(A) of the Act further states that if it is not practicable to complete the review within the time period specified, the administering authority may extend the 245-day period to issue its preliminary results by up to 120 days.

Due to new subsidy allegations and the large number of companies and programs in this administrative review, we have determined that it is not practicable to complete the preliminary results of this review within the 245-day period. Therefore, in accordance with section 751(a)(3)(A) of the Act, we are extending the time period for issuing the preliminary results of the review to 365 days. The preliminary results are now due no later than December 31, 2007. The final results continue to be due 120 days after publication of the preliminary results.

This notice is issued and published in accordance with section 751(a)(3)(A) of the Act.

Dated: July 27, 2007.
Stephen J. Claeys,
Deputy Assistant Secretary for Import Administration.

[FR Doc. E7-15017 Filed 8-1-07; 8:45 am]

BILLING CODE 3510-DS-S